DEPARTMENT OF ENERGY

Federal Energy Regulatory Commission

Combined Notice of Filings #1

Take notice that the Commission received the following exempt wholesale generator filings:

Docket Numbers: EG23-133-000.

Applicants: Angelo Solar, LLC.

Description: Self-Certification of EG of Angelo Solar, LLC.

Filed Date: 4/24/23.

Accession Number: 20230424-5296.

Comment Date: 5 p.m. ET 5/15/23.

Docket Numbers: EG23-134-000.

Applicants: Shady Oaks Wind 2, LLC.

Description: Notice of Self-Certification of Exempt Wholesale Generator Status of Shady Oaks Wind 2, LLC.

Filed Date: 4/26/23.

Accession Number: 20230426-5116,

Comment Date: 5 p.m. ET 5/17/23.

Docket Numbers: EG23-135-000.

Applicants: Shady Oaks Transco Interconnection, LLC.

Description: Notice of Self-Certification of Exempt Wholesale Generator Status of Shady Oaks Transco Interconnection, LLC.

Filed Date: 4/26/23.

Accession Number: 20230426-5117.

Comment Date: 5 p.m. ET 5/17/23.

Take notice that the Commission received the following electric rate filings:

Docket Numbers: ER11-4051-005; ER14-1656-013.

Applicants: CSOLAR IV West, LLC, CSOLAR IV South, LLC.

Description: Notice of Change in Status of CSOLAR Development, LLC, et al.

Filed Date: 4/25/23.

Accession Number: 20230425-5330.

Comment Date: 5 p.m. ET 5/16/23.

Docket Numbers: ER16-700-007.

Applicants: CPV Towantic, LLC.

Description: Notice of Change in Status of CPV Towantic, LLC.

Filed Date: 4/24/23.

Accession Number: 20230424-5295.

Comment Date: 5 p.m. ET 5/15/23.

Docket Numbers: ER20-2452-005.

Applicants: Hamilton Liberty LLC.

Description: Compliance filing: Informational Filing Pursuant to Schedule 2 of the PJM OATT & Request for Waiver to be effective N/A.

Filed Date: 4/26/23.

Accession Number: 20230426-5081.

Comment Date: 5 p.m. ET 5/17/23.

Docket Numbers: ER20-2453-006.

Applicants: Hamilton Patriot LLC.

Description: Compliance filing: Informational Filing Pursuant to Schedule 2 of the PJM OATT & Request for Waiver to be effective N/A.

Filed Date: 4/26/23.

Accession Number: 20230426-5086.

Comment Date: 5 p.m. ET 5/17/23.

Docket Numbers: ER22-2481-001.

Applicants: Seven Cowboy Wind Project, LLC.

Description: Notice of Non-Material Change in Status of Seven Cowboy Wind Project, LLC.

Filed Date: 4/24/23.

Accession Number: 20230424-5298.

Comment Date: 5 p.m. ET 5/15/23.

Docket Numbers: ER23-175-002.

Applicants: Daggett Solar Power 3 LLC.

Description: Notice of Change in Status of Daggett Solar Power 3 LLC.

Filed Date: 4/25/23.

Accession Number: 20230425-5328.

Comment Date: 5 p.m. ET 5/16/23.

Docket Numbers: ER23-937-000.

Applicants: Chevelon Butte RE LLC.

Description: Supplement to January 26, 2023, Chevelon Butte RE LLC tariff filing.

Filed Date: 4/25/23.

Accession Number: 20230425-5314.

Comment Date: 5 p.m. ET 5/5/23.

Docket Numbers: ER23-1234-001.

Applicants: PJM Interconnection, L.L.C.

Description: Tariff Amendment: Request to Defer Action on WMPA SA No. 6800; Queue No. AF2-325; Docket ER23-1234 to be effective 12/31/9998.

Filed Date: 4/26/23.

Accession Number: 20230426-5041.

Comment Date: 5 p.m. ET 5/17/23.

Docket Numbers: ER23-1441-001.

Applicants: PJM Interconnection, L.L.C.

Description: Tariff Amendment: Amendment to NSA, SA No. 6837; Queue No. AE1-104 in Docket No. ER23-1441 to be effective 5/22/2023.

Filed Date: 4/26/23.

Accession Number: 20230426-5055.

Comment Date: 5 p.m. ET 5/17/23.

Docket Numbers: ER23-1711-000.

Applicants: PJM Interconnection, L.L.C.

Description: § 205(d) Rate Filing: Amendment to WMPA, Service Agreement No. 5989; Queue No. AF1-217 to be effective 6/24/2023.

Filed Date: 4/26/23.

Accession Number: 20230426-5009.

Comment Date: 5 p.m. ET 5/17/23.

Docket Numbers: ER23-1712-000.

Applicants: American Electric Power Service Corporation, Ohio Power Company, PJM Interconnection, L.L.C.

Description: § 205(d) Rate Filing: American Electric Power Service Corporation submits tariff filing per 35.13(a)(2)(iii: AEP submits update to Attachment 1 of ILDSA, SA No. 1336 (3/31/23) to be effective 4/1/2023.

Filed Date: 4/26/23.

Accession Number: 20230426-5046.

Comment Date: 5 p.m. ET 5/17/23.

Docket Numbers: ER23-1713-000.

Applicants: Unitil Power Corp.

Description: Unitil Power Corp. submits Statement of all billing transactions under the Amended Unitil System Agreement for the period January 1, 2022 to December 31, 2022.

Filed Date: 4/25/23.

Accession Number: 20230425-5326.

Comment Date: 5 p.m. ET 5/16/23.

Docket Numbers: ER23-1714-000.

Applicants: PJM Interconnection, L.L.C.

Description: Tariff Amendment: Notice of Cancellation of ICSA, SA No. 4218; Queue No. AA1-065 to be effective 3/13/2023.

Filed Date: 4/26/23.

Accession Number: 20230426-5094.

Comment Date: 5 p.m. ET 5/17/23.

Docket Numbers: ER23-1715-000.

Applicants: Southwest Power Pool, Inc.

Description: § 205(d) Rate Filing: 2900R20 KMEA NITSA NOA to be effective 4/1/2023.

Filed Date: 4/26/23.

Accession Number: 20230426-5103.

Comment Date: 5 p.m. ET 5/17/23.

Docket Numbers: ER23-1716-000.

Applicants: PJM Interconnection, L.L.C.

Description: § 205(d) Rate Filing: Original NSA, Service Agreement No. 6867; Queue No. AD1-041/AE1-190/AE1-191 to be effective 6/26/2023.

Filed Date: 4/26/23.

Accession Number: 20230426-5105.

Comment Date: 5 p.m. ET 5/17/23.

Docket Numbers: ER23-1717-000.

Applicants: Tri-State Generation and Transmission Association, Inc.

Description: Tariff Amendment: Notice of Cancellation of Rate Schedule FERC No. 345 to be effective 4/18/2023.

Filed Date: 4/26/23.

Accession Number: 20230426-5114.

Comment Date: 5 p.m. ET 5/17/23.

Docket Numbers: ER23-1718-000.

Applicants: Pacific Gas and Electric Company.

Description: § 205(d) Rate Filing: CCSF Missed Metered Points (WDT SA 275) to be effective 6/26/2023.

Filed Date: 4/26/23.

Accession Number: 20230426-5115.

Comment Date: 5 p.m. ET 5/17/23.

Docket Numbers: ER23-1719-000.

Applicants: Southwest Power Pool, Inc.

Description: § 205(d) Rate Filing: Tariff Clean-Up of Evergy Missouri West—effective date 4/1/2021 to be effective 4/1/2021.

Filed Date: 4/26/23.

Accession Number: 20230426-5159.

Comment Date: 5 p.m. ET 5/17/23.

Docket Numbers: ER23-1720-000.

Applicants: Holtville BESS, LLC.

Description: Baseline eTariff Filing: Application for MBR, Waivers and Blanket Authority and Expedited Consideration to be effective 6/7/2023.

Filed Date: 4/26/23.

Accession Number: 20230426-5206.

Comment Date: 5 p.m. ET 5/17/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2023.
Debbie-Anne A. Reese,
Deputy Secretary.

[FR Doc. 2023-09248 Filed 5-1-23; 8:45 am]

BILLING CODE 6717-01-P